DEPARTMENT OF HOMELAND SECURITY

Coast Guard

33 CFR Part 165

[Docket No. USCG-2010-1027]

Safety Zone, Brandon Road Lock and Dam to Lake Michigan Including Des Plaines River, Chicago Sanitary and Ship Canal, Chicago River, and Calumet-Saganashkee Channel, Chicago, IL

AGENCY: Coast Guard, DHS.

ACTION: Notice of enforcement of regulation.

SUMMARY: The Coast Guard will enforce a segment of the Safety Zone; Brandon Road Lock and Dam to Lake Michigan including Des Plaines River, Chicago Sanitary and Ship Canal, Chicago River, Calumet-Saganashkee Channel on all waters of the Chicago Sanitary and Ship Canal from Mile Marker 296.1 to Mile Marker 296.7 daily from 7 a.m. to 11 a.m. and from 1 p.m. to 5 p.m. on December 6, 2010 through December 11, 2010 and from December 13, 2010 through December 18, 2010. This enforcement action will then occur again from 7 a.m. on December 20, 2010 through 5 p.m. on December 23, 2010. This action is necessary to protect the waterways, waterway users, and vessels from hazards associated with the U.S. Army Corps of Engineers' startup testing of the new dispersal barrier IIB, which will help control the spread of aquatic nuisance species that have the potential of devastating the waters of the Great Lakes.

During the enforcement period, entry into, transiting, mooring, laying-up or anchoring within the enforced area of this safety zone by any person or vessel is prohibited unless authorized by the Captain of the Port, Sector Lake Michigan, or his or her designated representative.

DATES: The regulations in 33 CFR 165.T09-0166 will be enforced from 7 a.m. on December 6, 2010 through 5 p.m. on December 23, 2010.

FOR FURTHER INFORMATION CONTACT: If you have questions on this notice, call or e-mail CDR Tim Cummins, Deputy Prevention Division, Ninth Coast Guard District, telephone 216-902-6045, e-mail address Timothy.M.Cummins@uscg.mil.

SUPPLEMENTARY INFORMATION: The Coast Guard will enforce a segment of the Safety Zone; Brandon Road Lock and Dam to Lake Michigan including Des Plaines River, Chicago Sanitary and Ship Canal, Chicago River, Calumet-Saganashkee Channel, Chicago, IL, listed in 33 CFR 165.T09-0166, on all waters of the Chicago Sanitary and Ship Canal from Mile Marker 296.1 to Mile Marker 296.7 daily from 7 a.m. to 11 a.m. and from 1 p.m. to 5 p.m. on December 6, 2010 through December 11, 2010 and from December 13, 2010 through December 18, 2010. This enforcement action will then occur again from 7 a.m. on December 20, 2010 through 5 p.m. on December 23, 2010.

This enforcement action is necessary because the Captain of the Port, Sector Lake Michigan has determined that the U.S. Army Corps of Engineers' dispersal barrier IIB startup testing poses risks to life and property. The combination of vessel traffic and electric current in the water makes the control of vessels through the impacted portion of the Chicago Sanitary and Ship Canal necessary to prevent injury and property loss.

In accordance with the general regulations in § 165.23 of this part, entry into, transiting, mooring, laying up, or anchoring within the enforced area of this safety zone by any person or vessel is prohibited unless authorized by the Captain of the Port, Sector Lake Michigan, or his or her designated representative.

This notice is issued under authority of 33 CFR 165.T09-0166 and 5 U.S.C. 552(a). In addition to this notice in the Federal Register, the Captain of the Port, Sector Lake Michigan, will also provide notice through other means, which may include but are not limited to Broadcast Notice to Mariners, Local Notice to Mariners, local news media, distribution in leaflet form, and on-scene oral notice. Additionally, the Captain of the Port, Sector Lake Michigan, may notify representatives from the maritime industry through telephonic and e-mail notifications.

Dated: November 17, 2010.
S.R. Schenk,
Commander, U.S. Coast Guard, Captain of the Port, Sector Lake Michigan, Acting.

[FR Doc. 2010-30148 Filed 11-29-10; 8:45 am]

BILLING CODE 9110-04-P